DEPARTMENT OF THE INTERIOR

Fish and Wildlife Service

[FWS-R4-ES-2016- N119; FXES11130900000C2-167-FF09E32000]

Endangered and Threatened Wildlife and Plants; 5-Year Status Reviews of 22 Southeastern Species

AGENCY: Fish and Wildlife Service, Interior.

ACTION: Notice of initiation of reviews; request for information.

SUMMARY: We, the U.S. Fish and Wildlife Service (Service), are initiating 5-year status reviews of 22 species under the Endangered Species Act of 1973, as amended (Act). A 5-year review is an assessment of the best scientific and commercial data available at the time of the review. Therefore, we are requesting submission of information that has become available since the last review of each of these species.

DATES: To allow us adequate time to conduct these reviews, we must receive your comments or information on or before October 31, 2016. However, we will continue to accept new information about any listed species at any time.

ADDRESSES: For instructions on how to submit information and review information we receive on these species, see “Request for New Information.”

FOR FURTHER INFORMATION CONTACT: For species-specific information, see “Request for New Information.”

SUPPLEMENTARY INFORMATION:

Why do we conduct A 5-Year review?

Under the Act (16 U.S.C. 1531 et seq.), we maintain lists of endangered and threatened wildlife and plant species in the Code of Federal Regulations (CFR) at 50 CFR 17.11 (for wildlife) and 17.12 (for plants). Section 4(c)(2)(A) of the Act requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

Species Under Review

This notice announces our active review of 15 species that are currently listed as endangered:

Fish and Wildlife

Alabama beach mouse (Peromyscus polionotus ammobates)

Choctawhatchee beach mouse (Peromyscus polionotus allophrys)

Key Largo woodrat (Neotoma floridana smalli)

Boulder darter (Etheostoma wapiti)

Oyster mussel (Epioblasma capsaeformis)

Turgid blossom (Epioblasma turgidula)

Georgia pigtoe (Pleurobema hanleyianum)

Interrupted rocksnail (Leptoxis foremani)

Rough hornsnail (Pleurocera foremani)

Plants

Clematis socialis (Alabama leather flower)

Conradina glabra (Apalachicola rosemary)

Amorpha crenulata (Crenulate lead-plant)

Isoetes melanospora (Black spored quillwort)

Isoetes tegetiformans (Mat forming quillwort)

Spigelia gentianoides (Gentian pinkroot)

This notice also announces our active review of 7 species that are currently listed as threatened:

Fish and Wildlife

Louisiana pearlshell (Margaritifera hembeli)

Tulotoma snail (Tulotoma magnifica)

Plants

Amaranthus pumilus (Seabeach amaranth)

Amphianthus pusilus (Little amphianthus)

Lesquerella lyrata (Lyrate bladderpod)

Pinguicula ionantha (Godfrey's butterwort)

Chamaesyce garberi (Garber's spurge)

What information do we consider in our review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How Do We Determine Whether A Species Is Endangered or Threatened?”); and

E. Other new information, data, or corrections, including but not limited to taxonomic or nomenclatural changes, identification of erroneous information contained in the List, and improved analytical methods.

New information will be considered in the 5-year review and ongoing recovery programs for the species.

Definitions

A. Species means any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether A species is endangered or threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the person associated with the species you are interested in below:

A. To get more information on a species;

B. To submit information on a species; or

C. To review information we receive, which will be available for public inspection by appointment, during normal business hours, at the listed addresses.

Mammals

• Alabama beach mouse (Peromyscus polionotus ammobates): Alabama Ecological Services Field Office, U.S. Fish and Wildlife Service, 1208-B Main Street, Daphne, AL 36526; fax 251-441-6222. For information on this species, contact Bill Lynn at the ES Field Office by phone at 251-441-5181 or by email at william_lynn@fws.gov.

• Choctawhatchee beach mouse (Peromyscus polionotus allophyrs): Panama City Ecological Services Field Office, U.S. Fish and Wildlife Service, 1601 Balboa Ave., Panama City, FL 32405; fax 850-763-2717. For information on these species, contact Kristi Yanchis at the ES Field Office by phone at 850-769-0552 or by email at kristi_yanchis@fws.gov.

• Key Largo woodrat (Neotoma floridana smalli): South Florida Ecological Services Field Office, U.S. Fish and Wildlife Service, 1339 20th Street, Vero Beach, FL 32960; fax 772-469-4265. For information on these species, contact Sandra Sneckenberger at the ES Field Office by phone at 772-469-4321 or by email at sandra_sneckenberger@fws.gov.

Fishes, Clams, and Snails

• Boulder darter (Etheostoma wapiti), Oyster mussel (Epioblasma capsaeformis), and Turgid blossom (Epioblasma turgidula): Tennessee Ecological Services Field Office, U.S. Fish and Wildlife Service, 446 Neal Street, Cookeville, TN 38501; fax 931-528-7075. For information on these species, contact Stephanie Chance at the ES Field Office by phone at 931-528-6481 ext. 211 or by email at stephanie_chance@fws.gov

• Louisiana pearlshell (Margaritifera hembeli): Louisiana Ecological Services Field Office, U.S. Fish and Wildlife Service, 646 Cajundome Blvd., Suite 400, Lafayette, LA 70506; fax 337-291-3139. For information on this species, contact Monica Sikes at the ES Field Office by phone at 337-291-3118 or by email at monica_sikes@fws.gov.

• Georgia pigtoe (Pleurobema hanleyianum), Interrupted rocksnail (Leptoxis foremani), Tulotoma snail (Tulotoma magnifica), and Rough hornsnail (Pleurocera foreman): Alabama Ecological Services Field Office (see contact information above). For information on these species, contact Jennifer Grunewald at the ES Field Office by phone at 251-441-6633 or by email at jennifer_grunewald@fws.gov.

Plants

• Clematis socialis (Alabama leatherflower): Mississippi Ecological Services Field Office, U.S. Fish and Wildlife Service, 6578 Dogwood View Parkway, Jackson, MS 39213; fax 601-965-4340. For information on these species, contact Scott Wiggers at the ES Field Office by phone at 601-965-4900 or by email at marion_wiggers@fws.gov.

• Conradina glabra (Appalachicola rosemary), Pinguicula ionantha (Godfrey's butterwort), and Spigelia gentianoides (Gentian pinkroot): Panama City Ecological Services Field Office, (see contact information above). For information on these species, contact Vivian Negron-Ortiz at the ES Field Office by phone at 850-769-0552 or by email at vivian_negron-ortiz@fws.gov.

• Amorpha crenulata (Crenulate lead-plant) and Chamaesyce garberi (Garber's spurge): South Florida Ecological Services Field Office (see contact information above). For information on this species, contact David Bender at the ES Field Office by phone at 772-469-4294 or by email at david_bender@fws.gov.

• Lesquerella lyrata (Lyrate bladderpod): Alabama Ecological Services Field Office (see contact information above). For information on this species, contact Shannon Holbrook at the ES Field Office by phone at 251-441-5181 or by email at shannon_holbrook@fws.gov.

• Amphianthus pusilus (Little amphianthus), Isoetes melanospora (black spored quillwort), Isoetes tegetiformans (mat forming quillwort): Georgia Ecological Services Field Office, U.S. Fish and Wildlife Service, 105 Westpark Drive, Suite D, Athens, GA 30606; fax 706-613-6059. For information on these species, contact Deborah Harris at the ES Field Office by phone at 706-613-9493 ext 224 or by email at deborah_harris@fws.gov.

• Amaranthus pumilus (Seabeach amaranth): Raleigh Ecological Services Field Office, U.S. Fish and Wildlife Service, P.O. Box 33726, Raleigh, NC 33726; fax 919-856-4558. For information on these species, contact Dale Suiter at the ES Field Office by phone at 919-856-4520 ext 18 or by email at dale_suiter@fws.gov.

We request any new information concerning the status of any of these 22 species. See “What Information Do We Consider In Our Review?” for specific criteria. Information submitted should be supported by documentation such as maps, bibliographic references, methods used to gather and analyze the data, and/or copies of any pertinent publications, reports, or letters by knowledgeable sources.

Public Availability of Comments

Before including your address, phone number, email address, or other personal identifying information in your comment, you should be aware that the entire comment—including your personal identifying information—may be made publicly available at any time. While you can ask us in your comment to withhold your personal identifying information from public review, we cannot guarantee that we will be able to do so.

Authority: We publish this document under the authority of the Endangered Species Act (16 U.S.C. 1531 et seq.).

Dated: August 19, 2016.
Mike Oetker,
Acting Regional Director, Southeast Region.

[FR Doc. 2016-20670 Filed 8-29-16; 8:45 am]

BILLING CODE 4333-15-P